DEPARTMENT OF DEFENSE

Department of the Army

Privacy Act of 1974; System of Records

AGENCY: Department of the Army, DOD.

ACTION: Notice to alter a System of Records.

SUMMARY: The Department of the Army is altering a system of records notice in its existing inventory of record systems subject to the Privacy Act of 1974, (5 U.S.C. 552a), as amended. The alteration adds a new category of individuals covered, i.e., key congressional staff members.

DATES: This proposed action will be effective without further notice on May 14, 2001 unless comments are received which result in a contrary determination.

ADDRESSES: Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a (r) of the Privacy Act of 1974, as amended, was submitted on April 3, 2001, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 6, 2000.
L.M. Bynum,
Alternate OSD Federal Register Liaison Officer, Department of Defense.

A0360-5 SALL

System Name:

Biographies: Members of Congress (February 22, 1993, 58 FR 10002).

Changes:

* * * * *

System Name:

Delete entry and replace with “Congressional Information File”.

System Location:

Delete entry and replace with “Chief, Legislative Liaison, Office of the Secretary of the Army, 1600 Army Pentagon, Washington, DC 20310-1600.”

Categories of Individuals Covered by the System:

Add to entry “key congressional staff members.”

Categories of Records in the System:

Delete entry and replace with “Biographical information on members of Congress and key congressional staff members, mailing addresses, and committee memberships.”

Authority for Maintenance of the System:

Delete entry and replace with “10 U.S.C 1034, Protected Communications; Prohibition of Retaliatory Personnel Actions; 10 U.S.C. 3013, Secretary of the Army; and E.O. 9397 (SSN).”

Purposes(s):

Delete entry and replace with “To provide information on members of Congress and their staffs for whom Army representatives may be testifying or for whom escorts may be provided to familiarize them with the Members' relationships with the Department of the Army as well as to handle mailings for Department of the Defense related events and materials.”

* * * * *

Storage:

Delete entry and replace with “Electronic storage media on local area network.”

Retrievability:

Delete entry and replace with “By Congress member's last name, committee membership, date of birth, party affiliation, address, marital status and key congressional staff member's names.”

* * * * *

A0360-5 SALL

System Name:

Congressional Information File.

System location:

Chief, Legislative Liaison, Office of the Secretary of the Army, 1600 Army Pentagon, Washington, DC 20310-1600.

Categories of Individuals Covered by the System:

Current members of the U.S. Congress and key congressional staff members.

Categories of Records in the System:

Biographical information on members of Congress and key congressional staff members, mailing addresses, and committee memberships.

Authority for Maintenance of the System:

10 U.S.C. 3013, Secretary of the Army; 10 U.S.C. 1034, Protected Communications; Prohibition of Retaliatory Personnel Actions; and E.O. 9397 (SSN).

Purpose(s):

To provide information on members of Congress and their staffs for whom Army representatives may be testifying or for whom escorts may be provided to familiarize them with the Members' relationships with the Department of the Army as well as to handle mailings for Department of the Defense related events and materials.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Electronic storage media on local area network.

Retrievability:

By Congress member's last name, committee membership, date of birth, party affiliation, address, marital status and key congressional staff member's names.

Safeguards:

Records are maintained in password protected network accessible only to authorized personnel.

Retention and disposal:

Disposition pending (until the National Archives and Records Administration has approved the disposition, treat as permanent).

System Manager(s) and Address:

Chief, Legislative Liaison, Office of the Secretary of the Army, 1600 Army Pentagon, Washington, DC 20310-1600.

Notification Procedure:

Individuals seeking to determine whether information about themselves is contained in this system should address written inquiries to the Chief, Legislative Liaison, Office of the Secretary of the Army, 1600 Army Pentagon, Washington, DC 20310-1600.

For verification purposes, individual should provide the full name, Social Security Number, and should identify the Member of Congress' full name and state the Member represents.

Record Access Procedures:

Individuals seeking access to information about themselves contained in this system should address written inquiries to the Chief, Legislative Liaison, Office of the Secretary of the Army, 1600 Army Pentagon, Washington, DC 20310-1600.

For verification purposes, individual should provide the full name, Social Security Number, and should identify the Member of Congress' full name and state the Member represents.

Contesting Record Procedures:

The Army's rules for accessing records, and for contesting contents and appealing initial agency determinations are contained in Army Regulation 340-21; 32 CFR part 505; or may be obtained from the system manager.

Record Source Categories:

Congress person, key congressional staff members. Official public records such as the Congressional Record, Congressional Quarterly Weekly Report, official transcripts of unclassified committee hearings, and the Congressional Staff Directory.

Exemptions Claimed for the System:

None.

[FR Doc. 01-9134 Filed 4-12-01; 8:45 am]

BILLING CODE 5001-10-M